FEDERAL FINANCIAL INSTITUTIONS EXAMINATION COUNCIL

[Docket No. AS24-20]

Appraisal Subcommittee; Notice of Meeting

AGENCY: Appraisal Subcommittee of the Federal Financial Institutions Examination Council.

ACTION: Notice of meeting.

Description: In accordance with section 1104(b) of title XI of the Financial Institutions Reform, Recovery, and Enforcement Act of 1989, codified at 12 U.S.C. 3333(b), notice is hereby given that the Appraisal Subcommittee (ASC) will meet in open session for its regular meeting.

Location: This will be a virtual meeting via Webex. Please visit the agency's homepage (www.asc.gov) and access the registration link provided in the News and Events section. You MUST register in advance to attend this meeting.

Date: November 20, 2024.

Time: 10 a.m. ET.

Status: Open.

Reports

Chair

Executive Director

Delegated State Compliance Reviews

Grants Director

Financial Manager

Action and Discussion Items

Approval of Minutes

September 25, 2024 Quarterly Meeting Minutes

Policy on Monitoring and Reviewing the Appraisal Foundation

Notice of Proposed Rulemaking on Enforcement

Compliance Reviews

• Indiana Appraiser Program Compliance Review

• Indiana Appraisal Management Company Program Compliance Review

• South Dakota Appraiser Program Compliance Review

• U.S. Virgin Islands Appraiser Program Compliance Review

How To Attend and Observe an ASC Meeting

The meeting will be open to the public via live webcast only. Visit the agency's homepage (www.asc.gov) and access the registration link provided in the News and Events section. The meeting space is intended to accommodate public attendees. However, if the space will not accommodate all requests, the ASC may refuse attendance on that reasonable basis. The use of any video or audio tape recording device, photographing device, or any other electronic or mechanical device designed for similar purposes is prohibited at ASC Meetings.

James R. Park,
Executive Director.

[FR Doc. 2024-26846 Filed 11-15-24; 8:45 am]

BILLING CODE 6700-01-P